DEPARTMENT OF HEALTH AND HUMAN SERVICES

Centers for Disease Control and Prevention

[Program Announcement 00134]

Leadership and Investment in Fighting an Epidemic (LIFE) Global AIDS Activity; Notice of Availability of Funds; Amendment

A notice announcing the availability of Fiscal Year 2000 funds to establish a increase United States support for sub-Saharan African countries and India to limit the further spread of HIV and to care for those affected by this devastating disease was published in the Federal Register on July 11, 2000, [Vol. 65, No. 133, Pages 42704-42706]. The notice is amended as follows:

On page 42704, Second Column, under Section B. Eligible Applicants, Item (1), delete: “Be a U.S. Private Volunteer Organization (PVO)” and change to read: “(1) Have been granted tax-exempt status under Section 501(c)(3), evidenced by an Internal Revenue Service (IRS) determination letter;'.

On page 42704, Second Column, under Section B. Eligible Applicants, Item No. (2), change to read: “have at least 2 years experience in delivering HIV, STD, or TB prevention and/or prenatal/obstetric/reproductive programs in accordance with GAA objectives in at least 2 of the 15 countries (Botswana, Cote d'Ivoire, Ethiopia, Kenya, Malawi, Mozambique, Nigeria, Rwanda, Senegal, South Africa, Tanzania, Uganda, Zambia, Zimbabwe, India).

On page 42705, Third Column, Under Section F. Submission and Deadline, change to read: “On or before September 6, 2000 submit the application to the Grants Management Specialist identified in the “Where to Obtain Additional Information” section of this announcement.

John L. Williams,
Director, Procurement and Grants Office Center for Disease Control and Prevention (CDC).

[FR Doc. 00-19617 Filed 8-2-00; 8:45 am]

BILLING CODE 4163-18-P